OFFICE OF PERSONNEL MANAGEMENT

5 CFR PART 213

RIN 3206-AJ70

Excepted Service—Temporary Organizations

AGENCY: Office of Personnel Management.

ACTION: Interim rule with request for comments.

SUMMARY: The Office of Personnel Management (OPM) is issuing an interim regulation to amend the excepted service Schedule A authority for temporary organizations. This regulation will revise the definition of the term “temporary organization” to comply with recently-enacted legislation. It will also establish criteria with which temporary organizations must comply if they wish to extend an employee's appointment.

DATES: Effective Date: Effective Date: May 8, 2003.

Applicability Date: A temporary organization that does not meet the new criteria must move its incumbents from the authority by August 6, 2003.

Comments Date: Comments must be received on or before July 7, 2003.

ADDRESSES: Send or deliver written comments to Ellen E. Tunstall, Deputy Associate Director for Talent and Capacity Policy, Office of Personnel Management, 1900 E Street, NW., Room 6551, Washington, DC 20415.

FOR FURTHER INFORMATION CONTACT: Christina Vay by telephone on 202-606-0960, by FAX on 202-606-2329, or by TDD on 202-418-3134.

SUPPLEMENTARY INFORMATION: The Floyd D. Spence National Defense Authorization Act for fiscal year 2001 (Pub. L. 106-398, October 30, 2000) added a new subchapter IV to chapter 31 of title 5, United States Code. The new subchapter:

—Defined the term “temporary organization;''

—Provided that the head of a temporary organization may make excepted service appointments to fill positions in these organizations of up to 3 years;

—Provided for appointment extensions for no more than 2 years; and

—Gave return rights to those who transfer or convert (with agency head approval) to these appointments from career or career-conditional appointments if certain conditions are met.

Because of these statutory changes, we are amending the current excepted service Schedule A appointing authority at 5 CFR 213.3199 for temporary organizations. If a temporary organization has employees currently appointed under this authority and the temporary organization meets the criteria of the revised authority at 5 CFR 213.3199, then the appointments are valid and no changes to the appointments are needed. If a temporary organization does not meet the criteria of the revised authority, it must move any incumbents from the authority within 90 days of the date of this interim regulation. The incumbents are moved to either another governmentwide excepted service authority or an agency-specific excepted service authority that has already been granted. If the temporary organization does not have another authority available to use, it may request from OPM an agency-specific excepted service authority.

We are issuing this regulation as an interim rule because the law defining temporary organizations is already in effect. Delaying the effective date of the regulation would not change the fact that the law is in place and must be applied.

Regulatory Flexibility Act

I certify that these regulations will not have a significant economic impact on a substantial number of small entities because the regulations pertain only to Federal employees and agencies.

Executive Order 12866, Regulatory Review

This rule has been reviewed by the Office of Management and Budget in accordance with Executive Order 12866.

List of Subjects in 5 CFR Part 213

Government employees, Reporting and recordkeeping requirements.

Office of Personnel Management.
Kay Coles James,
Director.

Accordingly, OPM amends 5 CFR part 213 as follows:

PART 213—EXCEPTED SERVICE

1. The authority citation for part 213 is revised to read as follows:

Authority: 5 U.S.C. 3161; 5 U.S.C. 3301 and 3302, E.O. 10577, 3 CFR 1954-1958 Comp., p. 218; sec. 213.101 also issued under 5 U.S.C. 2103; sec. 213.3102 also issued under 5 U.S.C. 3301, 3302, 3307, 8337(h) and 8456; E.O. 12364, 47 FR 22931, 3 CFR 1982 Comp., p. 185; 38 U.S.C. 4301 et seq.; Pub. L. 105-339, 112 Stat. 3182-83; and E.O. 13162.

2. In subpart C § 213.3199 is revised to read as follows:

§ 213.3199 Temporary organizations.

Positions on the staffs of temporary organizations, as defined in 5 U.S.C. 3161(a). Appointments may not exceed 3 years, but temporary organizations may extend the appointments for 2 additional years if the conditions for extension are related to the completion of the study or project.

[FR Doc. 03-11398 Filed 5-7-03; 8:45 am]

BILLING CODE 6325-38-P